DEPARTMENT OF COMMERCE

International Trade Administration

[A-570-965]

Drill Pipe From the People's Republic of China: Antidumping Duty Order

AGENCY: Import Administration, International Trade Administration, Department of Commerce.

SUMMARY: Based on affirmative final determinations by the Department of Commerce (the “Department”) and the International Trade Commission (the “ITC”), the Department is issuing an antidumping duty order on drill pipe from the People's Republic of China (“PRC”). On February 24, 2011, the ITC notified the Department of its affirmative determination of threat of material injury to a U.S. industry, and its negative determination of critical circumstances. See Drill Pipe and Drill Collars from China (Investigation Nos. 701-TA-474 and 731-TA-1176 (Final), USITC Publication 4213, February 2011).

DATES: Effective Date: March 3, 2011.

FOR FURTHER INFORMATION CONTACT: Toni Dach or Susan Pulongbarit, Office 9, Import Administration, International Trade Administration, U.S. Department of Commerce, 14th Street and Constitution Avenue, NW., Washington, DC 20230; telephone: (202) 482-1655 or (202) 482-4031, respectively.

SUPPLEMENTARY INFORMATION:

Background

On January 11, 2011, the Department published its affirmative final determination of sales at less than fair value in the antidumping duty investigation of drill pipe from the PRC. See Drill Pipe From the People's Republic of China: Final Determination of Sales at Less Than Fair Value and Critical Circumstances, 76 FR 1966 (January 11, 2011) (“Final Determination”). On February 8, 2011, the Department published its amended final determination of sales at less than fair value in antidumping duty investigation of drill pipe from the PRC. See Drill Pipe From the People's Republic of China: Amended Final Determination of Critical Circumstances, 76 FR 6762 (February 8, 2011).

On February 24, 2011, the ITC notified the Department of its final determination pursuant to section 735(b)(1)(A)(ii) of the Tariff Act of 1930, as amended (the “Act”), that an industry in the United States is threatened with material injury by reason of less than fair value imports of subject merchandise from the PRC. See letter from the ITC to the Deputy Assistant Secretary of Commerce for Antidumping and Countervailing Duty Operations, dated February 24, 2011. In addition, the ITC notified the Department of its final determination that critical circumstances do not exist with respect to imports of subject merchandise from the PRC that are subject to the Department's affirmative critical circumstances finding. Pursuant to section 736(a) of the Act, the Department is publishing an antidumping duty order on drill pipe from the PRC.

Scope of the Order

The products covered by the order are steel drill pipe, and steel drill collars, whether or not conforming to American Petroleum Institute (“API”) or non-API specifications. Included are finished drill pipe and drill collars without regard to the specific chemistry of the steel (i.e., carbon, stainless steel, or other alloy steel), and without regard to length or outer diameter. Also included are unfinished drill collars (including all drill collar green tubes) and unfinished drill pipe (including drill pipe green tubes, which are tubes meeting the following description: seamless tubes with an outer diameter of less than or equal to 6⅝ inches (168.28 millimeters), containing between 0.16 and 0.75 percent molybdenum, and containing between 0.75 and 1.45 percent chromium). The scope does not include tool joints not attached to the drill pipe, nor does it include unfinished tubes for casing or tubing covered by any other antidumping or countervailing duty order.

The subject products are currently classified in the following Harmonized Tariff Schedule of the United States (“HTSUS”) categories: 7304.22.0030, 7304.22.0045, 7304.22.0060, 7304.23.3000, 7304.23.6030, 7304.23.6045, 7304.23.6060, 8431.43.8040 and may also enter under 8431.43.8060, 8431.43.4000, 7304.39.0028, 7304.39.0032, 7304.39.0036, 7304.39.0040, 7304.39.0044, 7304.39.0048, 7304.39.0052, 7304.39.0056, 7304.49.0015, 7304.49.0060, 7304.59.8020, 7304.59.8025, 7304.59.8030, 7304.59.8035, 7304.59.8040, 7304.59.8045, 7304.59.8050, and 7304.59.8055.

While HTSUS subheadings are provided for convenience and customs purposes, the written description of the scope of the order is dispositive.

Antidumping Duty Order

On February 24, 2011, in accordance with section 735(d) of the Act, the ITC notified the Department of its final determination that an industry in the United States is threatened with material injury within the meaning of section 735(b)(1)(A)(ii) of the Act by reason of less-than-fair-value imports of drill pipe from the PRC.

Because the ITC's final determination is based on the threat of material injury and is not accompanied by a finding that injury would have resulted but for the imposition of suspension of liquidation of entries since the Department's preliminary determination, section 736(b)(2) of the Act is applicable. Therefore, the Department will instruct U.S. Customs and Border Protection (“CBP”) to terminate the suspension of liquidation, and to liquidate without regard to antidumping duties, unliquidated entries of drill pipe from the PRC entered, or withdrawn from warehouse, for consumption prior to the publication of the ITC's final determination and release any bond or other security posted and refund any cash deposit of estimated antidumping duties made between the publication of the Department's preliminary determination on August 18, 2010, and the publication of the ITC's final determination. Suspension of liquidation will continue starting on or after the date of publication of the ITC's notice of final determination of threat of material injury in the Federal Register, except for the imports of subject merchandise from those combinations of producers and exporters identified below:

Exporter | Producer
Baoshan Iron & Steel Co., Ltd | Baoshan Iron & Steel Co., Ltd.
Shanxi Yida Special Steel Imp. & Exp. Co., Ltd | Shanxi Yida Special Steel Group Co., Ltd.

Continuation of Suspension of Liquidation

In accordance with section 735(c)(1)(B) of the Act, for all other manufacturers/exporters we will instruct CBP to suspend liquidation on all entries of subject merchandise from the PRC effective on the date of publication of the ITC's notice of final determination in the Federal Register. We will also instruct CBP to require, at the same time as importers would normally deposit estimated customs duties on this merchandise, cash deposits for the subject merchandise equal to the estimated weighted-average antidumping margins listed below. See section 736(a)(3) of the Act. The estimated dumping margins for imports of subject merchandise from the PRC will be adjusted for export subsidies found in the final determination of the companion countervailing duty investigation of this merchandise imported from the PRC. See Drill Pipe From the People's Republic of China: Final Affirmative Countervailing Duty Determination, Final Affirmative Critical Circumstances Determination, 76 FR 1971 (January 11, 2011). Specifically, for cash deposit purposes, we are subtracting from the antidumping cash deposit rate applicable to DP-Master Manufacturing Co., Ltd. and Jiangyin Liangda Drill Pipe Co., Ltd. (“collectively “the DP-Master Group”) and for the separate-rate companies, the rate attributable to the export subsidies calculated in the affirmative countervailing duty determination on drill pipe from the PRC for the DP-Master Group, the sole respondent in that investigation. See Final Determination. The all others rate or PRC-wide rate, as applicable, apply to all producers or exporters not specifically listed.

In accordance with section 736 of the Act, the Department will also direct CBP to assess antidumping duties on all unliquidated entries of subject merchandise from the PRC entered, or withdrawn from warehouse, for consumption on or after the date on which the ITC publishes its notice of final determination of threat of material injury in the Federal Register.

Exporter | Producer | Weighted-average margin
The DP-Master Group | The DP-Master Group | 69.32
Shanxi Fenglei Drilling Tools Co., Ltd | Shanxi Fenglei Drilling Tools Co., Ltd | 69.32
Jiangsu Shuguang Huayang Drilling Tool, Co. Ltd | Jiangsu Shuguang Huayang Drilling Tool, Co. Ltd | 69.32
Jiangyin Long-Bright Drill Pipe Manufacturing Co., Ltd | Jiangyin Long-Bright Drill Pipe Manufacturing Co., Ltd | 69.32
PRC-wide Entity |  | 429.95

With regard to the ITC's negative critical circumstances determination on imports of the subject merchandise from the PRC, we will instruct CBP to lift suspension and to release any bond or other security, and refund any cash deposit made, to secure the payment of estimated antidumping duties with respect to entries of the merchandise entered, or withdrawn from warehouse, for consumption on or after May 20, 2010 (i.e., 90 days prior to the date of publication of the Preliminary Determination), but before August 18, 2010.

This notice constitutes the antidumping duty order with respect to drill pipe from the PRC, pursuant to section 736(a) of the Act. Interested parties may contact the Department's Central Records Unit, Room 7046 of the Main Commerce Building, for copies of an updated list of antidumping duty orders currently in effect.

This order is issued and published in accordance with section 736(a) of the Act and 19 CFR 351.211(b).

Dated: February 25, 2011.
Paul Piquado,
Acting Deputy Assistant Secretary for Import Administration.

[FR Doc. 2011-4792 Filed 3-2-11; 8:45 am]

BILLING CODE 3510-DS-P